DEPARTMENT OF ENERGY

Federal Energy Regulatory Commission

Combined Notice of Filings #1

April 30, 2009.

Take notice that the Commission received the following electric corporate filings:

Docket Numbers: EC09-75-000.

Applicants: Red Hills Wind Project, L.L.C.

Description: Application for Order Authorizing Disposition of Jurisdictional Facilities Under Section 203 of the Federal power act of Red Hills Wind Project, L.L.C.

Filed Date: 04/28/2009.

Accession Number: 20090428-5155.

Comment Date: 5 p.m. Eastern Time on Tuesday, May 19, 2009.

Take notice that the Commission received the following electric rate filings:

Docket Numbers: ER03-534-009.

Applicants: Ingenco Wholesale Power, LLC.

Description: Ingenco Wholesale Power, LLC submits a further revised market-based rate tariff in compliance with Order 697 and 697-A.

Filed Date: 04/22/2009.

Accession Number: 20090423-0012.

Comment Date: 5 p.m. Eastern Time on Wednesday, May 13, 2009.

Docket Numbers: ER06-615-048; ER08-367-005.

Applicants: California Independent System Operator Corporation.

Description: California Independent System Operator Corporation submits Substitute Second Revised Sheet 490 et al. to its FERC Electric Tariff, Fourth Replacement Volume 1.

Filed Date: 04/24/2009.

Accession Number: 20090428-0014.

Comment Date: 5 p.m. Eastern Time on Friday, May 15, 2009.

Docket Numbers: ER06-615-049.

Applicants: California Independent System Operator Corporation.

Description: California Independent System Operator Corporation submits for acceptance 2nd Substitute Second Revised Sheet 847 et al. to its FERC Electric Tariff, Fourth Replacement Volume 11.

Filed Date: 04/27/2009.

Accession Number: 20090428-0017.

Comment Date: 5 p.m. Eastern Time on Monday, May 18, 2009.

Docket Numbers: ER06-738-020; ER06-739-020; ER03-983-019; ER02-537-023; ER07-501-019; ER07-758-015; ER08-649-012.

Applicants: Cogen Technologies Linden Venture, L.P., Fox Energy Company LLC, Birchwood Power Partners, L.P., Inland Empire Energy Center, L.L.C., East Coast Power Liden Holding, LLC, Shady Hills Holding Company, L.L.C., EFS Parlin Holdings, LLC.

Description: Notice of Non-Material Change in Status of East Coast Power Liden Holding, LLC, et al.

Filed Date: 04/28/2009.

Accession Number: 20090428-5134.

Comment Date: 5 p.m. Eastern Time on Tuesday, May 19, 2009.

Docket Numbers: ER08-1209-004.

Applicants: ISO New England Inc. & New England Power Pool.

Description: ISO New England Inc et al. submits Report of Compliance.

Filed Date: 04/27/2009.

Accession Number: 20090428-0060.

Comment Date: 5 p.m. Eastern Time on Monday, May 18, 2009.

Docket Numbers: ER08-1398-002.

Applicants: Smoky Hills Wind Project II, LLC.

Description: Smoky Hills Wind Project II, LLC Non-material Change in status.

Filed Date: 04/28/2009.

Accession Number: 20090428-5106.

Comment Date: 5 p.m. Eastern Time on Tuesday, May 19, 2009.

Docket Numbers: ER09-75-003.

Applicants: Pioneer Transmission, LLC.

Description: Pioneer Transmission, LLC submits compliance filing.

Filed Date: 04/27/2009.

Accession Number: 20090428-0059.

Comment Date: 5 p.m. Eastern Time on Monday, May 18, 2009.

Docket Numbers: ER09-506-000.

Applicants: Midwest Independent Transmission System Operator, Inc.

Description: Midwest Independent Transmission System Operator, Inc. submits a response to FERC's 3/5/09 letter seeking additional information.

Filed Date: 04/06/2009.

Accession Number: 20090408-0232.

Comment Date: 5 p.m. Eastern Time on Thursday, May 7, 2009.

Docket Numbers: ER09-585-001.

Applicants: PJM Interconnection L.L.C.

Description: PJM Interconnection, LLC submits Substitute Fifth Revised Sheet 409A et al. to its FERC Electric Tariff, Sixth Revised Volume 1.

Filed Date: 04/27/2009.

Accession Number: 20090428-0021.

Comment Date: 5 p.m. Eastern Time on Monday, May 18, 2009.

Docket Numbers: ER09-701-001.

Applicants: PJM Interconnection L.L.C.

Description: PJM Response to FERC Deficiency Letter.

Filed Date: 04/28/2009.

Accession Number: 20090428-5214.

Comment Date: 5 p.m. Eastern Time on Tuesday, May 19, 2009.

Docket Numbers: ER09-910-000; OA09-25-000; TS09-3-000.

Applicants: Cogen Technologies Linden Venture, L.L.P.

Description: Cogen Technologies Linden Venture, LLP submits a supplement to their 3/27/09 filing to provide additional information re the cost support requirements etc.

Filed Date: 04/28/2009.

Accession Number: 20090430-0048.

Comment Date: 5 p.m. Eastern Time on Thursday, May 14, 2009.

Docket Numbers: ER09-933-001.

Applicants: Entergy Services, Inc.

Description: Entergy Services, Inc submits Original Sheet 23 to its FERC Electric Rate Schedule 435.

Filed Date: 04/24/2009.

Accession Number: 20090424-0126.

Comment Date: 5 p.m. Eastern Time on Friday, May 15, 2009.

Docket Numbers: ER09-1043-000.

Applicants: PJM Interconnection L.L.C.

Description: PJM Interconnection, LLC submits an executed Interim Interconnection Service Agreement etc.

Filed Date: 04/27/2009.

Accession Number: 20090428-0016.

Comment Date: 5 p.m. Eastern Time on Monday, May 18, 2009.

Docket Numbers: ER09-1044-000.

Applicants: Northwestern Wisconsin Electric Company.

Description: Northwestern Wisconsin Electric Company's submits FERC Rate Schedule 2.

Filed Date: 04/27/2009.

Accession Number: 20090428-0015.

Comment Date: 5 p.m. Eastern Time on Monday, May 18, 2009.

Docket Numbers: ER09-1045-000.

Applicants: Unitil Power Corporation.

Description: Unitil Power Corp. submits Amended Unitil System Agreement, Appendix 1, Section D.

Filed Date: 04/27/2009.

Accession Number: 20090428-0056.

Comment Date: 5 p.m. Eastern Time on Monday, May 18, 2009.

Docket Numbers: ER09-1046-000.

Applicants: Phelps Dodge Power Marketing, LLC.

Description: Phelps Dodge Power Marketing, LLC submits Notice of Cancellation of its market-based rate tariff.

Filed Date: 04/27/2009.

Accession Number: 20090428-0057.

Comment Date: 5 p.m. Eastern Time on Monday, May 18, 2009.

Docket Numbers: ER09-1047-000.

Applicants: South Carolina Electric & Gas Company.

Description: South Carolina Electric & Gas Company submits revisions to Attachment F and Attachment G of SCE& G's Open Access Transmission Tariff.

Filed Date: 04/27/2009.

Accession Number: 20090428-0055.

Comment Date: 5 p.m. Eastern Time on Monday, May 18, 2009.

Docket Numbers: ER09-1062-000.

Applicants: Tampa Electric Company.

Description: Tampa Electric Company submits revised rate schedule sheets for inclusion in the rate schedules comprising Tampa Electric's bilateral interchange contracts with 16 other utilities.

Filed Date: 04/29/2009.

Accession Number: 20090430-0176.

Comment Date: 5 p.m. Eastern Time on Wednesday, May 20, 2009.

Take notice that the Commission received the following electric securities filings:

Docket Numbers: ES09-24-000.

Applicants: The Detroit Edison Company.

Description: Supplemental Information of The Detroit Edison Company.

Filed Date: 04/28/2009.

Accession Number: 20090428-5225.

Comment Date: 5 p.m. Eastern Time on Friday, May 8, 2009.

Docket Numbers: ES09-28-000.

Applicants: Entergy Mississippi, Inc.

Description: Application of Entergy Mississippi, Inc., for Authorization Under Federal Power Act Section 204.

Filed Date: 04/28/2009.

Accession Number: 20090428-5194.

Comment Date: 5 p.m. Eastern Time on Tuesday, May 19, 2009.

Take notice that the Commission received the following open access transmission tariff filings:

Docket Numbers: OA07-39-004; OA08-71-004.

Applicants: Xcel Energy Services Inc.

Description: Xcel Energy Services Inc. Annual Report of Penalty Assessments and Distributions in accordance with Order Nos. 890 and 890-A.

Filed Date: 04/28/2009.

Accession Number: 20090428-5221.

Comment Date: 5 p.m. Eastern Time on Tuesday, May 19, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E9-10824 Filed 5-8-09; 8:45 am]

BILLING CODE 6717-01-P